DEPARTMENT OF ENERGY

Federal Energy Regulatory Commission

[Docket No. EL09-29-000; Docket No. EL09-30-000]

NorthWestern Corporation; Mountain States Transmission Intertie, LLC; NorthWestern Corporation; Post-Technical Conference Notice

March 13, 2009.

The Commission Staff convened an informal technical conference in the above-referenced proceedings on Thursday, March 12, 2009, at 1 p.m. (EDT), at the offices of the Federal Energy Regulatory Commission, 888 First Street, NE., Washington, DC 20426. Notice of the technical conference was issued on February 25, 2009, and a supplemental notice of technical conference was issued on March 5, 2009.

Post-technical conference information and comments will be filed as follows. Petitioners ¹ will make a filing on or before March 27, 2009 supplementing the Petitions for Declaratory Order in the referenced proceedings addressing the topics and questions discussed at the conference. Thereafter, interested persons, regardless of whether they attended the technical conference, may file comments to respond to the Petitioners' supplemental filing on or before April 14, 2009.

¹ Petitioners are NorthWestern Corporation, and Mountain States Transmission Intertie, LLC.

Kimberly D. Bose,
Secretary.

[FR Doc. E9-6078 Filed 3-19-09; 8:45 am]

BILLING CODE